DEPARTMENT OF ENERGY

Federal Energy Regulatory Commission

[Project No. 2009-018-North Carolina/Virginia]

Virginia Electric and Power Company; Notice

February 5, 2003.

The following Commission staff were assigned to help facilitate resolution of environmental and related issues associated with development of the Roanoke Rapids-Lake Gaston Project license application that was filed on January 28, 1999. The Commission staff will continue to be available to assist the parties, if requested, to resolve issues and facilitate development of a comprehensive settlement agreement during the pendency of the license application. However, the “separated staff” will take no part in Commission review of the application, or deliberations concerning the merits of the application.

Office of Energy Projects

Ronald McKitrick

Monte Terhaar

Different Commission “advisory staff” will be assigned to process the license application, including providing advice to the Commission with respect to it. Separated staff and advisory staff are prohibited from communicating with one another concerning this license application.

Magalie R. Salas,
Secretary.

[FR Doc. 03-3359 Filed 2-10-03; 8:45 am]

BILLING CODE 6717-01-P